DEPARTMENT OF LABOR

Employment and Training Administration

[TA-W-40,521D]

Republic Technologies International Currently Known as Republic Engineered Products, Lorain, OH; Amended Certification Regarding Eligibility to Apply for Worker Adjustment Assistance

In accordance with section 223 of the Trade Act of 1974 (19 U.S.C. 2273) the Department of Labor issued a Certification of Eligibility to Apply for Worker Adjustment Assistance on February 19, 2002, applicable to workers of Republic Technologies International located in Lorain, Ohio. The notice was published in the Federal Register on February 28, 2002 (67 FR 9325).

At the request of the State agency, the Department reviewed the certification for workers of the subject firm. The workers produce hot rolled steel bars. The State reports that the plant was purchased by Republic Engineered Products and the worker group continued to produce hot rolled steel bars. Furthermore, worker separations have occurred under the new employer, and the workers wages are reported under the Unemployment Insurance tax account for the new owner.

It is the Department's intent to provide coverage to all workers of the firm adversely impacted by increases in imports of steel bars. Consequently, the Department is amending the certification to reflect the change in ownership and include workers of Republic Engineered Products, Lorain, Ohio.

The amended notice applicable to TA-W-40,521D is hereby issued as follows:

All workers of Republic Technologies International, currently known as Republic Engineered Products, Lorain, Ohio, who became totally or partially separated from employment on or after November 19, 2000 through February 19, 2004, are eligible to apply for adjustment assistance under section 223 of the Trade Act of 1974.

Signed at Washington, DC this 6th day of May, 2003.
Linda G. Poole,
Certifying Officer, Division of Trade Adjustment Assistance.

[FR Doc. 03-12419 Filed 5-16-03; 8:45 am]

BILLING CODE 4510-30-P